ENVIRONMENTAL PROTECTION AGENCY

[EPA-HQ-OPP-2015-0217; FRL-9925-43]

Streptomycin Sulfate; Receipt of Application for Emergency Exemption, Solicitation of Public Comment

AGENCY: Environmental Protection Agency (EPA).

ACTION: Notice.

SUMMARY: EPA has received a specific exemption request from the Florida Department of Agriculture and Consumer Services (FDACS) to use the pesticide streptomycin sulfate (CAS No. 3810-74-0) to treat up to 47,656 acres of grapefruit for fresh market to control citrus canker. The FDACS proposes a use of a pesticide which contains the active ingredient, streptomycin sulfate, also used in human and animal treatment as an antibiotic. EPA is soliciting public comment before making the decision whether or not to grant the exemption.

DATES: Comments must be received on or before May 4, 2015.

ADDRESSES: Submit your comments, identified by docket identification (ID) number EPA-HQ-OPP-2015-0217, by one of the following methods:

• Federal eRulemaking Portal: http://www.regulations.gov. Follow the online instructions for submitting comments. Do not submit electronically any information you consider to be Confidential Business Information (CBI) or other information whose disclosure is restricted by statute.

• Mail: OPP Docket, Environmental Protection Agency Docket Center (EPA/DC), (28221T), 1200 Pennsylvania Ave. NW., Washington, DC 20460-0001.

• Hand Delivery: To make special arrangements for hand delivery or delivery of boxed information, please follow the instructions at http://www.epa.gov/dockets/contacts.html.

Additional instructions on commenting or visiting the docket, along with more information about dockets generally, is available at http://www.epa.gov/dockets.

FOR FURTHER INFORMATION CONTACT: Susan Lewis, Registration Division (7505P), Office of Pesticide Programs, Environmental Protection Agency, 1200 Pennsylvania Ave. NW., Washington, DC 20460-0001; main telephone number: (703) 305-7090; email address: RDFRNotices@epa.gov.

SUPPLEMENTARY INFORMATION:

I. General Information

A. Does this action apply to me?

You may be potentially affected by this action if you are an agricultural producer, food manufacturer, or pesticide manufacturer. The following list of North American Industrial Classification System (NAICS) codes is not intended to be exhaustive, but rather provides a guide to help readers determine whether this document applies to them. Potentially affected entities may include:

• Crop production (NAICS code 111).

• Animal production (NAICS code 112).

• Food manufacturing (NAICS code 311).

• Pesticide manufacturing (NAICS code 32532).

B. What should I consider as I prepare my comments for EPA?

1. Submitting CBI. Do not submit this information to EPA through www.regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When preparing and submitting your comments, see the commenting tips at http://www.epa.gov/dockets/comments.html.

3. Environmental justice. EPA seeks to achieve environmental justice, the fair treatment and meaningful involvement of any group, including minority and/or low income populations, in the development, implementation, and enforcement of environmental laws, regulations, and policies. To help address potential environmental justice issues, the Agency seeks information on any groups or segments of the population who, as a result of their location, cultural practices, or other factors, may have atypical or disproportionately high and adverse human health impacts or environmental effects from exposure to the pesticide discussed in this document, compared to the general population.

II. What action is the agency taking?

Under section 18 of the Federal Insecticide, Fungicide, and Rodenticide Act (FIFRA) (7 U.S.C. 136p), at the discretion of the EPA Administrator, a Federal or state agency may be exempted from any provision of FIFRA if the EPA Administrator determines that emergency conditions exist which require the exemption. The Florida Department of Agriculture and Consumer Services (FDACS) has requested the EPA Administrator issue a specific exemption for the use of streptomycin sulfate on grapefruit grown for fresh market to control citrus canker (caused by the bacteria Xanthomonas axonopodis pv. Citri (Xac)). Information in accordance with 40 CFR part 166 was submitted as part of this request. Pursuant to 40 CFR 166.24(a)(8), the regulations governing FIFRA section 18 allow for publication of a notice of receipt of an application for an emergency exemption if the Administrator determines that publication is appropriate. The subject emergency exemption application submitted by the FDACS proposes a use of a pesticide which contains the active ingredient, streptomycin sulfate, also used in humans and animals as an antibiotic drug.

As part of this request, the FDACS asserts that citrus canker has spread throughout the citrus growing areas causing significant economic losses. FDACS states that this introduced pathogen has become a serious threat to the viability of the fresh market grapefruit industry in the state of Florida.

The FDACS proposes to make no more than two applications per crop of streptomycin sulfate, at a rate of 0.344 lbs active ingredient per acre (a.i./A), equivalent to 0.6875 lbs formulated product (equivalent to 50% streptomycin) per acre. A maximum total of 0.688 lbs a.i./A (1.375 lbs product/A) could potentially be applied on up to 47,656 acres of grapefruit in June through September of 2015. Use is possible statewide, but would primarily be in the commercial grapefruit producing counties of Polk, Hendry, Highlands, De Soto, Hardee, St. Lucie, Indian River, Collier, Manatee, and Martin. At maximum rates, applications, and acreage, 32,763 lbs of streptomycin sulfate (65,527 lbs formulated product), could be used under the proposed program.

This notice does not constitute a decision by EPA on the application itself. The regulations governing FIFRA section 18 allows publication of a notice of receipt of an application for a specific exemption proposing use of a pesticide which contains the active ingredient, streptomycin sulfate, also used in humans and animals as an antibiotic drug. This notice provides an opportunity for public comment on the application.

The Agency will review and consider all comments received during the comment period in determining whether to issue the specific exemption requested by the FDACS.

Authority: 7 U.S.C. 136 et seq.

Dated: April 9, 2015.
Susan Lewis,
Director, Registration Division, Office of Pesticide Programs.

[FR Doc. 2015-08908 Filed 4-16-15; 8:45 am]

BILLING CODE 6560-50-P